DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Health Centers Patient Survey—New.

The Health Center program supports Community Health Centers (CHCs), Migrant Health Centers (MHCs), Health Care for the Homeless (HCH) projects, and Public Housing Primary Care (PHPC) programs. Health Centers receive grants from HRSA to provide primary and preventive health care services to medically underserved populations.

The proposed Patient Survey will collect in-depth information about health center patients, their health status, the reasons they seek care at health centers, their diagnoses, the services they utilize at health centers and elsewhere, the quality of those services, and their satisfaction with the care they receive, through personal interviews of a stratified random sample of health center patients. Interviews are planned to take approximately 1 hour and six minutes each.

The Patient Survey builds on previous periodic User-Visit Surveys which were conducted to learn about the process and outcomes of care in CHCs and HCH projects. The original survey questions were derived from the National Health Interview Survey (NHIS) and the National Hospital Ambulatory Medical Care Survey (NHAMCS) conducted by the National Center for Health Statistics (NCHS). Conformance with the NHIS and NHAMCS allowed comparisons between these NCHS surveys and the previous CHC and HCH User-Visit Surveys. The new Patient Survey was developed using a questionnaire methodology similar to that used in the past, and will also allow some longitudinal comparisons for CHCs and HCH projects with the previous User-Visit survey data, including monitoring of process outcomes over time. In addition, this survey will include interviews of patients drawn from migrant populations and from residents of public housing; these populations were not included in the previous surveys.

The annual estimate of burden is as follows:

The estimated response burden for the survey is as follows:

Survey
Type of respondent; activity involved | Number of respondents | Responses per respondent | Total number of responses | Burden per response (hours) | Total hour burden
Grantee/Site Recruitment and Site Training | 115 | 3 | 345 | 3.75 | 1,294
Patient Recruitment | 5,658 | 1 | 5,658 | .167 | 945
Patient Survey | 4,526 | 1 | 4,526 | 1.1 | 4,979
Total | 5,773 |  | 10,529 |  | 7,218

Written comments and recommendations concerning the proposed information collection should be sent within 30 days of this notice to the desk officer for HRSA, either by e-mail to OIRA_submission@omb.eop.gov or by fax to 202-395-6974. Please direct all correspondence to the “attention of the desk officer for HRSA.”

Dated: February 24, 2009.
Alexandra Huttinger,
Director, Division of Policy Review and Coordination.

[FR Doc. E9-4460 Filed 3-2-09; 8:45 am]

BILLING CODE 4165-15-P